DEPARTMENT OF THE INTERIOR

National Park Service

Notice of Availability of a General Management Plan, Final Environmental Impact Statement for Mary McLeod Bethune Council House National Historic Site, Washington, DC

AGENCY: National Park Service, Interior.

ACTION: Notice.

SUMMARY: Pursuant to section 102 (2) (c) of the National Environmental Policy Act of 1969, the National Park Service announces the availability of a final Environmental Impact Statement and General Management Plan (FEIS/GMP) for Mary McLeod Bethune Council House National Historic Site, Washington, DC.

DATES: The Draft EIS/GMP was on public review from August 3, 2001 through October 15, 2001. Responses to public comment are addressed in the FEIS/GMP. A 30-day no-action period will follow the Environmental Protection Agency's Notice of Availability of the FEIS/GMP. After the 30-day period, a Record of Decision will be signed that will document NPS approval of the final EIS/GMP and identify the selected alternative for implementation.

ADDRESSES: The final EIS/GMP will be mailed to agencies, organizations, and individuals requesting the document. Copies of the document are available from Terri Urbanowski, PSD, National Park Service, P.O. Box 25287, Denver, CO 80225-0287 or requests may be mailed to: MAMC_GMP@nps.gov. Public reading copies of the document will also be available for review at the following locations:

• Mary McLeod Bethune Council House National Historic Site, 1318 Vermont Avenue, NW, Washington, DC 20020.

• National Capital Parks East, 1900 Anacostia Drive, SE, Washington, DC 20020.

• National Capital Region Office of Lands, Resources and Planning Attention: Gail Cain, 1100 Ohio Drive, NW, Washington, DC 20242.

• Frederick Douglass National Historic Site Visitor Center, 1411 W Street, SE, Washington, DC 20020.

• In addition the document will be posted on the National Park Service Planning site under Mary McLeod Bethune Council House Site, http://www.nps.gov/mamc/pphtml/facts.html.

SUPPLEMENTARY INFORMATION: Consistent with the park's purpose, significance, and mission goals, 4 alternatives were evaluated for guiding the management of the park over the next 15 to 20 years. The alternatives incorporate various management provisions to ensure resource protection and quality visitor experience conditions. The environmental consequences anticipated from implementation of the various alternatives are addressed in the document. Impact topics include cultural resources, visitor use and experience, socioeconomic environment, and site administration and facilities. The following management alternatives were evaluated in the EIS/GMP:

Alternative 1, the no-action alternative, would maintain current management direction. The Council House would continue to operate as a visitor center and administrative office area; archival collections and archive staff offices would remain in the carriage house. Conflicts would continue to occur between visitor and administrative functions in the limited space of the Council House resulting in a less than desirable visitor experience and operational inefficiency. Storage space for archival collections would remain inadequate.

Alternative 2, the preferred action, would place dual emphasis on the Council House, which would be used as a museum, and on the archives. Under this alternative new space would be acquired to accommodate some visitor services and most administrative offices. The visitor experience would be enhanced with adequate space to provide broad and comprehensive interpretative opportunities and exhibits in the Council House. The primary storage for archival collections would be in an offsite state-of-the-art facility that would provide enhanced preservation and protection of stored items. The carriage house would be renovated and would house a research room, offices for archival staff, an area for some processing of collections, and space for frequently accessed collections.

Alternative 3 would commemorate the site through the establishment of the Bethune Center for Human Rights. The Council House would be used for interpretation and also would provide a place for groups to meet and engage in activities, workshops and programs. Materials related to social justice and human rights would be emphasized in the archival collections. Additional property would be leased or acquired for administrative offices and would be the primary space for meetings and workshops. This space would be the main contact point for visitors, and access and programmatic interpretation would be provided for visitors with mobility disabilities at this site. Offsite interpretation would be expanded with traveling exhibits. The carriage house would be renovated and expanded to include the archival collections, archival staff offices, and research space.

Under alternative 4, the Council House would be used as a traditional National Park Service museum commemorating the life and times of Mary McLeod Bethune. The Council House would have expanded exhibit space and an orientation area for visitors. Period furnishings would be in the Council House and archival collections would illustrate the highlights of Dr. Bethune's life and activities. Educational materials would focus on the life contributions and legacy of Dr. Bethune. Space would be leased offsite to accommodate current archival collections that would be managed through a contract with others. The carriage house would be torn down and replaced with a new building that would house a bookstore, visitor restrooms and administrative offices.

FOR FURTHER INFORMATION CONTACT: Site Manager Diann Jacox, Mary McLeod Bethune National Historic Site, 1318 Vermont Avenue, NW, Washington, DC 20005, (202) 673-2402; FAX (202) 673-2414; e-mail Diann_Jacox@nps.gov.

Dated: January 23, 2002.
Terry R. Carlstrom,
Regional Director, National Capital Region, National Park Service.

[FR Doc. 02-6039 Filed 3-12-02; 8:45 am]

BILLING CODE 4310-70-P